DEPARTMENT OF LABOR

Employment and Training Administration

[TA-W-65,213]

Texon USA, Inc.; Russell, MA; Notice of Termination of Investigation

Pursuant to Section 221 of the Trade Act of 1974, as amended, an investigation was initiated on February 12, 2009 in response to a petition filed by a company official on behalf of the workers at Texon USA, Inc., Russell, Massachusetts.

The petitioner has requested that the petition be withdrawn. Consequently, the investigation has been terminated.

Signed at Washington, DC, this 13th day of February 2009.
Richard Church,
Certifying Officer, Division of Trade Adjustment Assistance.

[FR Doc. E9-3722 Filed 2-20-09; 8:45 am]

BILLING CODE 4510-FN-P